DEPARTMENT OF THE INTERIOR

National Park Service

[NPS-SERO-CAHA-16843; PPSESEROC3, PPMPSAS1Y.YP0000]

Notice of Intent To Prepare a Draft Environmental Impact Statement for a Special Use Permit to Dare County for Activities Related to the Protection of North Carolina Highway 12 in Cape Hatteras National Seashore, North Carolina

AGENCY: National Park Service, Interior.

ACTION: Notice of Intent.

SUMMARY: The National Park Service (NPS) is preparing a draft Environmental Impact Statement (EIS) in response to a request from Dare County, North Carolina, for a Special Use Permit for activities related to the protection of North Carolina Highway 12 (Highway 12) in the Buxton area. The EIS will assist the NPS in determining whether, where, and under what conditions the NPS would issue a Special Use Permit to Dare County for actions related to the protection of Highway 12 in the Buxton Village area. The NPS is considering this proposal to address erosion issues and prevent future emergency closure of these areas of Highway 12 due to storm impacts to the road in this narrow area of Hatteras Island. This notice initiates the public scoping process for this EIS.

DATES: The date, time, and location of public meetings will be announced through the NPS Planning, Environment, and Public Comment (PEPC) Web site http://parkplanning.nps.gov/caha, the Cape Hatteras National Seashore Web site, and in local media outlets. The NPS will conduct public meetings in the local area to receive input from interested parties on issues, concerns, and suggestions regarding the potential to issue a Special Use Permit to Dare County for activities related to the protection of Highway 12 in the Buxton area. The comment period will be announced at the meetings and will be published on the Cape Hatteras National Seashore Web site for this project at http://parkplanning.nps.gov/caha.

ADDRESSES: Interested individuals, organizations, and agencies are encouraged to provide written comments or suggestions to assist the NPS in determining the scope of issues related to the issuance of a Special Use Permit to Dare County for activities related to the protection of Highway 12 near Buxton. Written comments may be sent to: Superintendent, 1401 National Park Road, Manteo, North Carolina 27954.

FOR FURTHER INFORMATION CONTACT: Superintendent, 1401 National Park Road, Manteo, North Carolina 27954 at the address shown above, by phone at (252) 475-9000, or via email at CAHA_Superintendent@nps.gov.

SUPPLEMENTARY INFORMATION: Pursuant to Section 102(2)(c) of the National Environmental Policy Act of 1969, a draft EIS will be prepared and presented to the public for review and comment, followed by preparation and availability of the final EIS. Alternatives to be developed and considered in the EIS will likely focus on strategies for the protection of Highway 12, particularly in and around the areas of Buxton village that are regularly impacted or threatened by storms. The EIS will look to identify practical solutions, such as the consideration of beach nourishment, to address these threats and ongoing impacts. Before including your address, phone number, email address, or other personal identifying information in any comment, you should be aware that your entire comment—including your personal identifying information—may be made publicly available at any time. While you can ask us in your comment to withhold your personal identifying information from public review, we cannot guarantee that we will be able to do so.

The responsible official for this EIS is the Regional Director, NPS Southeast Region, 100 Alabama Street SW., 1924 Building, Atlanta, Georgia 30303.

Dated: December 19, 2014.
Stan Austin,
Regional Director, Southeast Region.

[FR Doc. 2014-30352 Filed 12-24-14; 8:45 am]

BILLING CODE 4310-JD-P